DEPARTMENT OF THE INTERIOR

Bureau of Land Management

[LLNVW03500.L51050000.EA0000.LVRCF1705210.17XMO#4500134682]

Notice of Availability of the Final Environmental Impact Statement for the Black Rock City LLC's Burning Man Special Recreation Permit Renewal in Pershing County, Nevada

AGENCY: Bureau of Land Management, Department of the Interior.

ACTION: Notice of availability.

SUMMARY: In compliance with the National Environmental Policy Act of 1969, as amended (NEPA), and the Federal Land Policy and Management Act of 1976, as amended, the Bureau of Land Management (BLM) Black Rock Field Office, Winnemucca, Nevada has prepared a Final Environmental Impact Statement (EIS) and by this notice is announcing its availability. The BLM is the lead agency in development of the Final EIS and will be evaluating Black Rock City LLC's (BRC) request for a 10-year Special Recreation Permit (SRP) for the Burning Man Event in Pershing County, Nevada.

DATES: The BLM will not issue its Record of Decision for a minimum of 30 days after the date that the Environmental Protection Agency publishes its Notice of Availability in the Federal Register. The Final EIS can be downloaded from the BLM website at: https://go.usa.gov/xEmSY.

FOR FURTHER INFORMATION CONTACT: For questions about the proposed SRP renewal, contact Chelsea McKinney, Burning Man Project Manager, telephone: (775) 623-1500, address: 5100 East Winnemucca Boulevard, Winnemucca, Nevada 89445.

SUPPLEMENTARY INFORMATION: The applicant, BRC, has applied for a 10-year SRP under 43 CFR 2930 et seq. and has submitted a proposal to conduct the Burning Man event on public lands administered by the BLM Black Rock Field Office. BRC's proposal includes the following:

• Population increase to permit up to 100,000 total persons at the event;

• Expansion of the BLM Closure Order boundary by 561 acres, to a total of 14,714 acres;

• Creation of alternative transportation (Burner Express Bus/Burner Express Air);

• Expansion of the perimeter fence to 10.4 miles total length;

• Arrival of as many as 30,000 staff and builders one week prior to opening;

• Expansion of Black Rock City to 1,250 acres;

• Installation of additional interactive camps;

• Installation of additional large scale art pieces;

• BRC licensing of art cars and ADA compliant vehicles to drive on the playa during event week;

• Use of approximately 16.5 million gallons of water per year would be obtained from private groundwater wells, located at Fly Ranch owned by BRC, for dust abatement and in support of event activities; and

• BRC management of vendor and compliance monitoring.

The Final EIS describes and analyzes the proposed Project's direct, indirect, and cumulative impacts on all affected resources. In addition to the Proposed Action (Alternative A), the following alternatives are also analyzed in the document: The Reduced Population Alternative with a population of 50,000 participants (Alternative B); the Alternate Site Alternative that moves the Event northeast of the current location (Alternative C); the No Population Change Alternative (Alternative D) would keep the population as it was in 2017 and 2018 at 80,000 participants; and the No Permit Alternative (Alternative E).

In December 2017, pre-scoping meetings were held in northern Nevada in Gerlach, Lovelock, and Reno. During those meetings the public was invited to submit comments regarding BRC's SRP renewal. During the pre-scoping comment period, the BLM received 77 comment letters.

On June 20, 2018, an initial Notice of Intent (NOI) was published in the Federal Register inviting scoping comments on the Proposed Action. The BLM received 327 scoping comment letters during the 45-day public scoping period. Concerns raised included impacts to air quality, cultural resources, environmental justice, transportation, Native American religious concerns, recreation, visual resources including Night Skies, wastes and materials (hazardous and solid), water resources, vegetation, wildlife, and Public Health and Safety.

On March 15, 2019, a Notice of Availability (NOA) was published in the Federal Register inviting comments on the Draft Environmental Impact Statement (EIS). The BLM received 2,016 submissions during the 45-day public comment period, with a total of 1,736 substantive comments. The Final EIS was edited in response to some of these substantive comments. Responses to all comments are located in Appendix K of the Final EIS.

The BLM has utilized and coordinated the NEPA scoping and comment process to help fulfill the public involvement requirements under the National Historic Preservation Act (NHPA) (54 U.S.C. 306108) as provided in 36 CFR 800.2(d)(3)—and continues to do so.

The information about historic and cultural resources within the area potentially affected by the proposed Project has assisted the BLM in identifying and evaluating impacts to such resources in the context of both NEPA and the NHPA.

The BLM has consulted and will continue to consult with Indian tribes on a government-to-government basis in accordance with Executive Order 13175 and other policies. Tribal concerns, including impacts to Indian trust assets and potential impacts to cultural resources have been analyzed in the Final EIS.

Authority: 40 CFR 1501.7

Mark E. Hall,
Field Manager, Black Rock Field Office.

[FR Doc. 2019-12629 Filed 6-13-19; 8:45 am]

BILLING CODE 4310-HC-P